DEPARTMENT OF ENERGY

Federal Energy Regulatory Commission

[FERC Docket No. PF06-15-000 and BLM Reference No. 2880/UTU-82750 and WYW-67229]

Wyoming Interstate Company, Ltd.; Notice of Intent To Prepare an Environmental Assessment And Proposed Land Use Plan Amendment for the Proposed Kanda Lateral and Mainline Expansion Project, Request for Comments on Environmental Issues, Notice of Public Scoping Meetings, and Notice of Site Visit

April 7, 2006.

The staff of the Federal Energy Regulatory Commission (FERC or Commission) will prepare an environmental assessment (EA) that will discuss the environmental impacts of Wyoming Interstate Company, Ltd's. (WIC) planned Kanda Lateral and Mainline Expansion Project located in Uintah and Daggett Counties, Utah and Sweetwater County, Wyoming. This notice explains the scoping process that will be used to gather input from the public and interested agencies on the project. Your input will help the Commission staff determine which issues need to be evaluated in the EA. Please note that the scoping period for the project will close on May 19, 2006.

In lieu of or in addition to sending written comments, you are invited to attend the public scoping meetings that have been scheduled in the project area. These meetings are scheduled for April 24, 2006 in Rock Springs, Wyoming and April 25, 2006 in Vernal, Utah. Further instructions on how to submit written comments and additional details of the public scoping meetings are provided in the public participation section of this notice.

The FERC will be the lead federal agency for the preparation of the EA. The document will satisfy the requirements of the National Environmental Policy Act (NEPA) and will be used by the FERC to consider the environmental impacts that could result if it issues WIC a Certificate of Public Convenience and Necessity under section 7 of the Natural Gas Act.

The U.S. Department of the Interior, Bureau of Land Management (BLM) is participating as a cooperating agency in the preparation of the EA because the project would cross Federal land under the jurisdiction of the Vernal Field Office in Utah and the Rock Springs Field Office in Wyoming.

Under section 185(f) of the Mineral Leasing Act of 1920, the BLM has the authority to issue Right-of-Way Grants for all affected federal lands. This would be in accordance with Title 43 Code of Federal Regulations (CFR) parts 2800 and 2880, subsequent 2800 and 2880 Manuals, and Handbook 2801-1. As a cooperating agency, the BLM would adopt the EA to meet its NEPA responsibilities in considering WIC's application for a Right-of-Way Grant and obtain a Temporary Use Permit for the portion of the project on federal land. The BLM will also use the EA to consider amending the Green River Resource Management Plan (RMP). Additional discussion of the BLM's plan amendment process is presented later in this notice.

With this notice, the staffs of the FERC and BLM (Agency Staffs) are asking other Federal, State, local, and tribal agencies with jurisdiction and/or special expertise with respect to environmental issues/impacts to participate as cooperating agencies in the preparation of the EA. These agencies may choose to participate once they have evaluated WIC's proposal relative to their responsibilities. Agencies that would like to request cooperating status should follow the instructions for filing comments described later in this notice.

This notice is being sent to affected landowners; Federal, state, and local government agencies and elected officials; environmental and public interest groups; Native American tribes; other interested parties; and local libraries and newspapers. The Agency Staffs encourage government representatives to notify their constituents of this planned project and encourage them to comment on their areas of concern.

If you are a landowner receiving this notice, you may be contacted by a WIC representative about the acquisition of an easement to construct, operate, and maintain the proposed facilities. WIC would seek to negotiate a mutually acceptable agreement. If the project is approved by the Commission, that approval conveys with it the right of eminent domain. Therefore, in the event easement negotiations fail to produce an agreement, WIC could initiate condemnation proceedings in accordance with state law.

A fact sheet prepared by the FERC entitled “An Interstate Natural Gas Facility on My land? What Do I Need to Know?” is available for viewing on the FERC Internet Web site (http://www.ferc.gov). This fact sheet addresses a number of typically asked questions, including the use of eminent domain and how to participate in the FERC's proceedings.

Summary of the Proposed Project

The Kanda Lateral ¹ would be comprised of about 124.5 miles of 20- or 24-inch-diameter pipeline beginning at the new Kerr-McGee Interconnect/Meter Station located in Uintah County, Utah. The pipeline would extend in a northerly direction through Daggett County, Utah and interconnect with WIC's mainline at the proposed Kanda Interconnect/Meter Station in Sweetwater County, Wyoming. Along the pipeline route, WIC would interconnect with two interstate pipelines, at the new Northwest Pipeline Interconnect/Meter Station and at the Clay Basin Storage Field Interconnect/Meter Station. In addition, WIC would construct various block valves and pig ² launcher and receiver facilities. The Kanda Lateral pipeline facilities would be designed to deliver up to 225,000,000 Dth/d (decatherms per day) of gas into WIC's mainline. The majority of the pipeline route would parallel an existing Questar/Mapco Pipeline corridor. As part of the Mainline Expansion, WIC would install two compressor units totaling 12,824 horsepower at the existing Colorado Interstate Gas Company's Wamsutter Compressor Station located in Sweetwater County, Wyoming. A map depicting WIC's proposed facilities is provided in Appendix 1.³

¹ A lateral pipeline is a pipeline which branches away from the central or primary part of the pipeline system.

² A pig is an internal tool that can be used to clean and dry a pipeline and/or to inspect it for damage or corrosion.

³ The appendices referenced in this notice are not eing printed in the Federal Register. Copies are available on the Commission's Web site (excluding the map) at the “eLibrary” link or from the Commission's Public Reference Room or call (202) 502-8371. For instructions on connecting to “eLibrary” refer to the end of this notice. Copies of the appendices were sent to all those receiving this notice in the mail.

WIC anticipates filing an application with the FERC in August 2006. If the Commission authorizes its project, WIC plans to begin construction in June 2007 to give it the opportunity to place the facilities in service by the fall of 2007.

The majority (70 percent) of WIC's proposed project would be on BLM lands.

Land Requirements

Construction of WIC's proposed pipeline and aboveground facilities would require about 2,219.6 acres of land, including the nominal construction right-of-way, temporary extra workspaces, pipe and contractor yards, staging areas, access roads, and aboveground facilities. Following construction, about 766.5 acres would be retained by WIC for operation of the pipeline and aboveground facilities. The remaining 1,453.1 acres would be restored and allowed to revert to its former use.

WIC is proposing an 85-foot-wide nominal construction right-of-way between milepost (MP) 0.0 and MP 82.4 and a 100-foot-wide nominal construction right-of-way between MP 82.4 and MP 124.5; with proposed temporary extra workspaces at site-specific locations to accommodate for rugged and steep terrain, side sloping, road, wetland, waterbody, and foreign pipeline crossings. Also, WIC proposes a 20-foot wide, ungraded area adjacent to the construction right-of-way to be used for placement of cut brush and limbs that are to be returned to the right-of-way after the pipe is installed. WIC would retain a 50-foot-wide permanent right-of-way for the pipeline.

The interconnect/meter stations would require about 0.7 acre each of land for operation, with additional temporary extra workspaces for construction. The Kerr-McGee Station site would house measuring and communication facilities, a pig launcher, and block valve. The Northwest Station site would house measuring and communication facilities. The Clay Basin Station site would house measuring and communication facilities, a pig launcher and receiver, and block valve. The Kanda Station would house measuring and communication facilities, a pig receiver, and block valve.

The block valves, that are not enclosed within a meter station site, would be located within a 45-foot by 75-foot (0.07 acre) fenced enclosure within the limits of the permanent right-of-way.

The two compressor units would be installed within the existing Wamsutter Compressor Station fenced property and would not require additional land.

The EA Process

NEPA requires the FERC to take into account the environmental impacts that could result from an action whenever it considers the issuance of a Certificate of Public Convenience and Necessity. The BLM is required to consider the environmental impacts from a project that requires BLM Right-of-Way Grants and/or Temporary Use Permits. The EA will give the Agency Staffs the information needed to do that.

Although no formal application has yet been filed with the FERC, the Agency Staffs have begun the environmental review of the project in accordance with the FERC's Pre-Filing Process. The purpose of the Pre-Filing Process is to seek public and agency input early in the project planning phase and encourage involvement by interested stakeholders to allow for the early identification and resolution of environmental issues/impacts. The Agency Staffs will work with all interested stakeholders to identify and attempt to address issues/impacts before WIC files its application with the FERC.

The Agency Staffs have already started to meet with WIC, jurisdictional agencies, and other interested stakeholders to discuss the project and identify issues/impacts and concerns. On April 4, 5, and 6, 2006, the Agency Staffs participated in public open houses sponsored by WIC in the project area to explain the environmental review process to interested stakeholders and take comments about the project. On April 6, 2006, the Agency Staffs conducted an interagency scoping meeting in the project area to solicit comments and concerns from agencies having jurisdiction over the project. By this notice, the Agency Staffs are formally announcing the preparation of the EA and requesting agency and public comments to help focus the analysis in the EA on the potentially significant environmental issues/impacts related to the proposed action.

The Agency Staffs' independent analysis of the issues/impacts will be included in the EA. The EA will also include possible alternatives to the proposed project or portions of the project, and we will make recommendations on how to lessen or avoid impacts on the various resource areas of concern. Depending on the comments received during the scoping process, the EA may be published and mailed to federal, state, and local government agencies and elected officials; environmental and public interest groups; other interested parties; affected landowners; Native American tribes; newspapers and local libraries; and the Commission's official service list for this proceeding. A 30-day comment period will be allotted for review of the EA. We will consider all comments submitted on the EA in any Commission Order that is issued for the project.

The BLM's Plan Amendment Process

The BLM will also use the EA to consider amending the Green River RMP. Publication of this notice formally initiates the plan amendment process and begins the scoping process. There are potential alternative routes that cross BLM-administered lands currently excluded to rights-of-way. The EA will consider reasonable alternatives including those that would cross these excluded areas. Therefore, for the proposed project, the EA will be used by the BLM to consider amending the current Green River RMP (August 1997), which would be necessary for any pipeline construction within the excluded areas.

BLM regulations in Title 43 CFR part 1600 and the NEPA process detailed in the Council on Environmental Quality regulations in Title 40 CFR parts 1500-1508 guide preparation of plan amendments. The process is tailored to the anticipated level of public interest and potential for significant impacts.

Plan amendments (see Title 43 CFR 1610.5-5) change one or more of the terms, conditions, or decisions of an approved land use plan. These decisions may include those relating to desired outcomes; measures to achieve desired outcomes, including resource restrictions; or land tenure decisions. Plan amendments are required to consider any proposal or action that does not conform to the plan.

An applicant may request that the BLM amend the land use plan to allow an otherwise non-conforming proposal. The amendment and any implementation actions (i.e., granting the right-of-way and temporary use permit) may be considered together. Separate decisions will be issued for the right-of-way and, if necessary, the plan amendment.

Additional information regarding the plan amendment process can be found in the BLM's Land Use Planning Handbook (http://www.blm.gov/nhp/200/wo210/landuse_hb.pdf).

Planning criteria guide development of the plan amendment by helping define the decision space (or the “sideboards”) of the planning effort; they are based on applicable laws, Director and State Director guidance, and the results of public and governmental participation (43 CFR 1610.4-2).

Planning criteria include but are not limited to the following:

• The plan amendment will be completed in compliance with the Federal Land Policy and Management Act (FLPMA), NEPA, and all other relevant Federal laws, Executive orders, and management policies of the BLM.

• Where existing planning decisions are still valid, those decisions may remain unchanged and be incorporated into the amendment.

• The plan amendment will recognize valid existing rights.

• Native American Tribal consultations will be conducted in accordance with policy and Tribal concerns will be given due consideration.

• Maintaining the relevant and important values of the Greater Red Creek Area of Critical Environmental Concern (ACEC).

• Wyoming BLM Mitigation Guidelines.

• Standards for Healthy Rangelands.

• Criteria for Areas of Critical Environmental Concern.

• Criteria for interim management of Wilderness Study Areas.

Criteria for alternative formulation include:

• Intensive management of cultural and historic resources, including rock art occurrences, historic trails, and Native American respected places.

• Providing for various types and levels of vegetation uses, including wildlife habitat, watershed protection, and livestock grazing.

• Providing for authorizing rights-of-way, off-highway vehicle (OHV) use, and other activities that may result in surface disturbance.

• Modification of right-of-way concentration areas, exclusion areas, and avoidance areas to provide for development needs and protection of resource values.

• Providing varying protection levels for unique and nonrenewable geological, cultural, paleontological, and recreational values.

• Management options for protecting or enhancing wetlands and riparian areas.

• Providing varying protection levels and for enhancement of habitat for sensitive or important wildlife and plant species, including protection of key elk and deer habitat and Colorado River Cutthroat trout habitat.

Effects criteria to identify and analyze environmental consequences include:

• Effects of surface disturbing land uses and other disruptive human activities on air quality, visual resources, cultural resources, recreational opportunities, watershed, and wildlife resources.

• Effects caused by OHV use or restrictions on OHV use.

• Effects of fencing on wildlife movement and migration.

• Effects of all types of land and resource uses on the vegetation resource.

• Economic impacts of land use restrictions on economic sectors that are heavily dependent on the use of public lands and resources.

Criteria for selection of a potential plan amendment: Answers to the following questions will be used to guide selection of the potential amendment.

• Does/Do the alternatives meet guidelines for reduction of sedimentation and salinity, as stated in water quality plans of the State of Wyoming and the Environmental Protection Agency (EPA), and Colorado River Salinity Control Act?

• What levels of land use restrictions are needed to provide adequate protection of resource values?

• Do the alternatives retain reasonable accessibility of public lands for purposes of public access, public land use, and resource development?

• Are the alternatives consistent with plans, programs, and policies of other Federal agencies, state and local governments, and Indian tribes?

• Are the alternatives consistent with the objectives established in the Green River RMP?

• Are relevant and important values of the Greater Red Creek ACEC maintained?

• Are sensitive species being protected or their habitat enhanced?

Currently Identified Environmental Issues/Impacts

The EA will discuss impacts that could occur as a result of the construction and operation of the proposed project. The Agency Staffs have already identified issues/impacts that deserve attention based on a preliminary review of the proposed facilities, the environmental information provided by WIC, and comments received to date. This preliminary list of issues/impacts may be changed based on your comments and the additional analysis of the Agency Staffs.

• Geology and Soils:

—Assessment of potential geological hazards.

—Desert construction and erosion control.

—Right-of-way restoration and revegetation in an arid environment.

—Evaluation of noxious weed control.

—Need for a rock disposal plan.

—Construction in steep terrain, including blasting.

• Water Resources:

—Impact of dry crossings of irrigation canals and drains.

—Impact of open-cut crossings of dry washes.

—Impact on wetland hydrology and assessment of wetland mitigation options.

—Effect of pipeline crossings on perennial and intermittent waterbodies.

• Fish, Wildlife, and Vegetation

—Effect on sensitive fisheries.

—Effect on wildlife resources and their habitat.

—Effect on riparian vegetation.

• Special Status Species:

—Potential effect on federally listed or proposed species.

—Potential effect on state-listed sensitive species.

—BLM sensitive species.

• Cultural Resources:

—Effect on historic and prehistoric sites.

—Native American and tribal concerns.

• Land Use, Recreation and Special Interest Areas, and Visual Resources:

—Evaluation of the current right-of-way concentration area through the Greater Red Creek ACEC.

—Visual impacts.

Public Participation

You are encouraged to become involved in this process and provide your specific comments or concerns about WIC's proposal. Your comments should focus on the potential environmental effects, reasonable alternatives, and measures to avoid or lessen environmental impacts. The more specific your comments, the more useful they will be. To expedite the Agency Staffs' receipt and consideration of your comments, electronic submission of comments is strongly encouraged. See Title 18 CFR 385.2001(a)(1)(iii) and the instructions on the FERC Internet Web site (http://www.ferc.gov) under the eFiling link and the link to the User's Guide. Before you can submit comments you will need to create a free account by clicking on “Sign-up” under “New User”. You will be asked to select the type of submission you are making. This type of submission is considered “Comment on Filing”. Comments submitted electronically must be submitted by May 19, 2006.

If you wish to mail comments, please mail your comments so that they will be received in Washington, DC on or before May 19, 2006 and carefully follow these instructions:

• Send an original and two copies of your letter to: Magalie R. Salas, Secretary, Federal Energy Regulatory Commission, 888 First St., NE., Room 1A, Washington, DC 20426;

• Label one copy of the comments for the attention of Gas Branch 1; DG2E;

• Reference Docket No. PF06-15-000 on the original and both copies.

The public scoping meetings are designed to provide another opportunity to offer comments on the proposed project. Interested groups and individuals are encouraged to attend the meetings and to present comments on the environmental issues/impacts they believe should be addressed in the EA. A transcript of the meetings will be generated so that your comments will be accurately recorded. Meetings will begin at 7 p.m. (m.d.t.), and are scheduled as follows:

Date | Location
Monday, April 24, 2006 | Holiday Inn, 1675 Sunset Drive, Rock Springs, WY 82901, (307) 382-9200.
Tuesday, April 25, 2006 | Western Park—Convention Center, 300 East 200 South, Vernal, UT 84078, (435) 789-7396.

Site Visit

On April 25 and 26, 2006, the Agency Staffs will conduct a site visit of the planned Kanda Lateral and Mainline Expansion Project.

We will view the proposed route and variations that are being considered for the planned pipeline. Agency Staffs will travel during this visit by automobile and on foot. Representatives of WIC will accompany the Agency Staffs.

All interested parties may attend the site visit on both days. Those planning to attend must provide their own transportation. If you are interested in attending the site visits, please meet us at 9 a.m.on April 25 in the parking lot of the Holiday Inn, 1675 Sunset Drive, Rock Springs, WY for the Wyoming portion of the project, and at 9 a.m.on April 26 in the parking lot of the Best Western Antlers, 423 West Main, Vernal, UT for the Utah portion of the project.

For additional information, please contact the Commission's Office of External Affairs at 1-866-208-FERC (3372).

Environmental Mailing List

If you received this notice, you are on the environmental mailing list for this project and will continue to receive project updates including the EA. If you want your contact information corrected or you do not want to remain on our mailing list, please return the Correct or Remove From Mailing List Form included as Appendix 2.

Availability of Additional Information

Additional information about the project is available from the Commission's Office of External Affairs at 1-866-208 FERC (3372) or on the FERC Internet Web site (http://www.ferc.gov) using the eLibrary link. Click on the eLibrary link, click on “General Search”, and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to the eSubscription link on the FERC Internet Web site.

Information concerning the proposed land use plan amendment and the involvement of the BLM in the EA and plan amendment process may be obtained from Mark Mackiewicz, PMP, Project Manager, at (435) 636-3616.

Finally, WIC will be setting up a publicly available Web site for its project. The Web site will include a description of the project, responses to frequently asked questions, and other appropriate project-related information. WIC will continually update its Web site with information about the project. WIC has designated the following individual as the single point of contact for stakeholder communication for this project: Mr. David R. Anderson, Manager, Land Department, Wyoming Interstate Company, Ltd., Two North Nevada Avenue, Colorado Springs, Colorado 80903, Telephone 1-877-598-5263, e-mail: david.r.anderson@elpaso.com.

Magalie R. Salas,
Secretary.

[FR Doc. E6-5557 Filed 4-13-06; 8:45 am]

BILLING CODE 6717-01-P